LIBRARY OF CONGRESS

Copyright Office

[Docket No. RM 2001-3]

Public Roundtable on Intellectual Property Aspects of a Draft Convention on Jurisdiction and Foreign Judgments

AGENCY: Copyright Office, Library of Congress.

ACTION: Notice Announcing Public Forum.

SUMMARY: The United States Copyright Office announces a public roundtable discussion on the intellectual property aspects of the preliminary draft Convention on Jurisdiction and Foreign Judgments in Civil and Commercial Matters being negotiated by the Hague Conference on Private International Law that provides special jurisdiction rules for, among other things, international torts.

Date and Time: The roundtable will be held on Tuesday, May 15, 2001, beginning at 9:30 a.m. and ending at 5:00 p.m.

ADDRESSES: Library of Congress, John Adams Building, Room LA-202, 110 Second Street, SE., Washington, DC. Any member of the public wishing to attend and requiring special services, such as sign language interpretation or other ancillary aids, should contact the Library of Congress at least five (5) working days prior to the hearing by telephone or electronic mail at the respective contact points listed immediately below.

Registration is not required to attend the roundtable. Seating will be available on a first-come, first-served basis. Requests for participation as a member of the roundtable are required and should be directed (preferably via e-mail) to Marla Poor, Attorney-Advisor, Office of Policy and International Affairs, U.S. Copyright Office, Library of Congress, mpoor@loc.gov.; (202)707-2694 telephone, (202)707-8366 fax. Requests for participation as a member of the roundtable should indicate the following information:

• The name of the person desiring to participate;

• The organization or organizations represented by that person, if any;

• Contact information (address, telephone, and e-mail);

• Information on the specific focus or interest of the participant (or his or her organization) and any questions or issues the participant would like to raise.

This request may be sent by e-mail (preferred), by mail, by fax or by hand-delivery. If sent by e-mail: requests to participate in the roundtable should be sent to Marla Poor at mpoor@loc.gov.

If delivered by mail: requests to participate in the roundtable should be addressed to Marla Poor, Attorney-Advisor, GC/I&R, PO Box 70400, Southwest Station, Washington, DC, 20024.

If sent by fax: requests to participate in the roundtable should be addressed to Marla Poor at 202-707-8366.

If delivered by hand: requests to participate in the roundtable should be delivered to Marla Poor, Office of Policy and International Affairs, Copyright Office, Library of Congress, LM-403, James Madison Memorial Building, 101 Independence Avenue, SE., Washington, DC.

The deadline for receipt of requests to participate in the roundtable is 5:00 p.m. on Thursday, May 10, 2001.

FOR FURTHER INFORMATION CONTACT: Marla Poor, Attorney-Advisor, Office of Policy and International Affairs, U.S. Copyright Office, Library of Congress (202) 707-2694, mpoor@loc.gov.

SUPPLEMENTARY INFORMATION:

Background

The draft Convention would create jurisdictional rules governing international lawsuits and provide for recognition and enforcement of judgments by the courts of Member States. Member States would be required to recognize and enforce judgments covered by the Convention if the jurisdiction in the court rendering the judgment is founded on one of the bases of jurisdiction required by the Convention.

Discussions on the draft Convention began in 1992, and various meetings have been held since then. The most recent meetings include an informal meeting on intellectual property aspects held in Geneva on February 1, 2001; a public roundtable sponsored by the Federal Trade Commission on dispute resolution for online business-to-consumer contracts held in Washington, DC on February 6, 2001; and a week long series of informal meetings (with an emphasis on electronic commerce and intellectual property) held in Ottawa the week of February 26, 2001. The Hague Conference posts various documents from these meetings, such as summaries of discussions, notes and reports, on its website (www.hcch.net).

The current text of the draft Convention was provisionally adopted by the Special Commission on June 18, 1999, and then was revised at a meeting held at The Hague from October 25-30, 1999. The current text of the draft Convention is available on The Hague Conference website (www.hcch.net). The first part of a Diplomatic Conference is planned for June 2001, and the second part will be held in 2002.

On October 17, 2000, the Patent and Trademark Office (PTO) published a Federal Register Notice requesting comments on the draft Convention. PTO received 27 comments. Specifically PTO was interested in assessing support for or opposition to the U.S. effort to negotiate the draft Convention as it relates to intellectual property. The public was asked for their views generally on the draft Convention and to comment on 16 questions that were presented in the Notice.

The purpose of the Copyright Office roundtable will be to bring together various parties, such as representatives from the copyright industries, representatives of users of copyrighted works, such as the American Library Association, consumer organizations and representatives from industries engaged in electronic commerce who are interested in the draft Convention. The participants should be prepared to identify and discuss more fully the issues and problems associated with the draft Convention, and to propose solutions that will aid the U.S. delegation to the Hague Conference as it participates in upcoming meetings to further the treaty negotiations.

Specific issues under discussion at the roundtable may include (but are not limited to):

• Does the draft Convention affect in any way the substantive law that applies to an activity of any party with respect to intellectual property?

• If a basis for jurisdiction is determined by where the injury occurs, in the context of electronic commerce, will this subject a seller to jurisdiction in an unforeseen country? Will there be any difference if the seller is an individual or a company?

• With respect to copyright liability issues, how will ISP's be implicated under the draft Convention?

• What effect could this Convention have on the enforcement of intellectual property rights with respect to the Internet?

• Under the draft Convention, will right holders be able to sue U.S. residents in foreign countries for intellectual property infringement for activities which are lawful in the United States? Will libraries, schools, businesses and individual consumers of information resources be required to defend themselves in courts far removed from their normal residence?

• In what circumstances will a U.S. court have to enforce a judgment of a foreign country's court against the U.S. user of intellectual property?

• What effect will the proposed Convention have on the ability to ensure consistent and predictable interpretation of licensing terms through choice of forum provisions in license agreements?

• What will be the practical impact of treaty provisions concerning the exercise of jurisdiction premised solely on a defendant's presence in the forum?

• How will the draft Convention affect traditional contractual freedom for parties to enter into agreements that typically designate the choice of jurisdiction and law?

• Will the draft Convention provide a predictable legal regime that will facilitate electronic commerce or impede electronic commerce? Will the draft Convention disrupt the predictability of conducting global business and electronic commerce?

Dated: April 18, 2001.
Marybeth Peters,
Register of Copyrights, United States Copyright Office.

[FR Doc. 01-10002 Filed 4-20-01; 8:45 am]

BILLING CODE 1410-30-P